DEPARTMENT OF DEFENSE

Defense Acquisition Regulations System

48 CFR Parts 202, 212, 246, and 252

[Docket No. 2015-0038]

RIN 0750-AI58

Detection and Avoidance of Counterfeit Electronic Parts—Further Implementation (DFARS Case 2014-D005)

AGENCY: Defense Acquisition Regulations System, Department of Defense (DoD).

ACTION: Announcement of meeting; extension of comment period.

SUMMARY: DoD is hosting a public meeting to obtain the views of experts and interested parties in Government and the private sector regarding further implementation of the requirement for detection and avoidance of counterfeit electronic parts, as required by a section of the National Defense Authorization Act for Fiscal Year 2012.

DATES: Public Meeting: The public meeting will be held on November 13, 2015, from 1 p.m. to 4:30 p.m., EST. Registration to attend this meeting must be received by November 9, 2015.

Submission of Comments: The comment period for the proposed rule published on September 21, 2015 (80 FR 56939) is extended. Comments on the proposed rule should be submitted in writing to the address shown in ADDRESSES on or before December 11, 2015, to be considered in formation of the final rule.

ADDRESSES: Public Meeting: The public meeting will be held at the Mark Center Auditorium, 4800 Mark Center Drive, Alexandria, VA 22350-3603. The Mark Center Auditorium is located on level B-1 of the building.

Submission of Comments: Submit comments identified by DFARS Case 2014-D005, using any of the following methods:

○ Regulations.gov: http://www.regulations.gov. Submit comments via the Federal eRulemaking portal by entering “DFARS Case 2014-D005” under the heading “Enter keyword or ID” and selecting “Search.” Select the link “Submit a Comment” that corresponds with “DFARS Case 2014-D005.” Follow the instructions provided at the “Submit a Comment” screen. Please include your name, company name (if any), and “DFARS Case 2014-D005” on your attached document.

○ Email: osd.dfars@mail.mil. Include DFARS Case 2014-D005 in the subject line of the message.

○ Fax: 571-372-6094.

○ Mail: Defense Acquisition Regulations System, Attn: Ms. Amy G. Williams, OUSD(AT&L)DPAP/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Ms. Amy Williams, DPAP/DARS, at 571-372-6106.

SUPPLEMENTARY INFORMATION: DoD is interested in continuing a dialogue with experts and interested parties in Government and the private sector about further implementation of the requirements for detection and avoidance of counterfeit electronic parts in DoD contracts.

On May 6, 2014, DoD published a final rule under DFARS Case 2012-D055, entitled “Detection and Avoidance of Counterfeit Electronic Parts” (78 FR 26092). That final rule constituted the initial partial implementation of section 818 of the National Defense Authorization Act (NDAA) for Fiscal Year (FY) 2012 (Pub. L. 112-81), as modified by section 817 of the NDAA for FY 2015 (Pub. L. 113-291).

On May 9, 2014, DoD published notice of a public meeting (79 FR 26725), which was held on June 16, 2014, to address further implementation of detections and avoidance of counterfeit electronic parts.

On September 21, 2015, DoD published a proposed rule under DFARS Case 2014-D005, entitled “Detection and Avoidance of Counterfeit Electronic Parts—Further Implementation” (80 FR 56939). The due date for comments on this proposed rule is extended from November 20, 2015, to December 11, 2015.

Registration: Individuals wishing to attend the public meeting should register by November 9, 2015, to ensure adequate room accommodations and to facilitate entry to the meeting. Interested parties may register at this Web site, http://www.acq.osd.mil/dpap/dars/counterfeit_electronic_parts_further_implementation_2015.html, by providing the following information:

(1) Company or organization name.

(2) Names and email addresses of persons planning to attend.

(3) Identify if desiring to make a presentation; limit to a 5-minute presentation per company or organization. This limitation may be subject to adjustment, depending on the number of entities requesting to present, in order to ensure adequate time for discussion.

One valid government-issued photo identification card will be required in order to enter the building. Attendees are encouraged to arrive at least 30 minutes early to accommodate security procedures. Public parking is not available at the Mark Center.

Presentations: If you wish to make a presentation, please submit an electronic copy of your presentation to osd.dfars@mail.mil no later than November 9, 2015. When submitting presentations, provide presenter's name, organization affiliation, telephone number, and email address on the cover page. Please submit presentations only and cite “Public Meeting, DFARS Case 2014-D005” in all correspondence related to the public meeting. There will be no transcription at the meeting. The submitted presentations will be the only record of the public meeting.

Special accommodations: The public meeting is physically accessible to people with disabilities. Requests for reasonable accommodations, sign language interpretation or other auxiliary aids should be directed to Amy Williams at 571-372-6106, at least 10 working days prior to the meeting date.

The TTY number for further information is: 1-800-877-8339. When the operator answers the call, let them know the agency is the Department of Defense; the point of contact is Amy Williams at 571-372-6106.

Correspondence and Comments: Please cite “Public Meeting, DFARS Case 2014-D005” in all correspondence related to this public meeting. The submitted presentations will be the only record of the public meeting. To have a presentation considered as a public comment for the formation of the final rule, the presentation, or pertinent excerpts, must be submitted separately as a written comment as instructed in the paragraph titled “Submission of Comments” in ADDRESSES.

List of Subjects in 48 CFR Parts 202, 212, 246, and 252

Government procurement.

Jennifer L. Hawes,
Editor, Defense Acquisition Regulations System.

[FR Doc. 2015-26749 Filed 10-20-15; 8:45 am]

BILLING CODE 5001-06-P